DEPARTMENT OF DEFENSE

Office of the Secretary

[Transmittal No. 16-45]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Chang Suh, DSCA/SA&E/RAN, (703) 697-8975.

The following is a copy of a letter to the Speaker of the House of Representatives, Transmittal 16-45 with attached Policy Justification.

Dated: November 1, 2016.
Aaron Siegel,
Alternate OSD Federal Register Liaison Officer, Department of Defense.

BILLING CODE 5001-06-P

BILLING CODE 5001-06-C

Transmittal No. 16-45

Notice of Proposed Issuance of Letter of Offer Pursuant to Section 36(b)(1) of the Arms Export Control Act, as amended

(i) (U) Prospective Purchaser: United Arab Emirates (UAE)

(ii) (U) Total Estimated Value:

Major Defense Equipment * | $ 0 million
Other | $75 million
Total | $75 million

(iii) (U) Description and Quantity or Quantities of Articles or Services under Consideration for Purchase:

Non-MDE:

The United Arab Emirates Air Force requests participation in military exercises, aerial refueling, airlift and ferry support, training aids/devices/munitions, technical and logistics support services, and other related elements of logistical and program support. There is no MDE associated with this potential sale. The total estimated cost is $75.0 million.

(iv) (U) Military Department: Air Force (X7-D-NAF Amendment 4)

(v) (U) Prior Related Cases, if any: AE-D-NAF-$49M-20 Mar 12

(vi) (U) Sales Commission, Fee, etc., Paid, Offered, or Agreed to be Paid: None

(vii) (U) Sensitivity of Technology Contained in the Defense Article or Defense Services Proposed to be Sold: None.

(viii) (U) Date Report Delivered to Congress: October 21, 2016

* as defined in Section 47(6) of the Arms Export Control Act.

POLICY JUSTIFICATION

(U) United Arab Emirates (UAE)—Exercise Participation Support

(U) The Government of the UAE requested a possible sale to include participation in military exercises, aerial refueling, airlift and ferry support, training aids/devices/munitions, technical and logistics support services, and other related elements of logistical and program support. The estimated cost is $75 million.

(U) This proposed sale contributes to the foreign policy and national security of the United States by helping to improve the security of a major regional ally which has been, and continues to be, an important force for political stability and economic progress in the Middle East.

(U) This proposed sale contributes to the foreign policy and national security of the United States by helping to improve the ability of the UAE to employ its fighter aircraft in a multi-country coalition environment, such as Red Flag and Green Flag exercises. Participating in major exercises has enhanced the UAE's continued and consistent role in support of Coalition Operations. The UAE is a steadfast coalition partner in the fight against radical Islamic forces such as ISIL and Al Qaeda (AQAP) in the Arabian Peninsula.

(U) The proposed sale of this equipment and support does not alter the basic military balance in the region.

(U) Implementation of this proposed sale will not require the assignment of any additional U.S. Government or contractor representatives to the UAE.

(U) There will be no adverse impact on U.S. defense readiness as a result of this proposed sale. All defense articles and services are approved for release by our foreign disclosure office.

[FR Doc. 2016-26714 Filed 11-3-16; 8:45 am]

BILLING CODE 5001-06-P